DEPARTMENT OF COMMERCE

National Oceanic and Atmospheric Administration

[I.D. 091206C]

Gulf of Mexico Fishery Management Council; Public Meetings

AGENCY: National Marine Fisheries Service (NMFS), National Oceanic and Atmospheric Administration (NOAA), Commerce.

ACTION: Notice of a public meeting.

SUMMARY: The Gulf of Mexico Fishery Management Council (Council) will convene a public meeting of the Habitat Protection Advisory Panel (AP).

DATES: The meeting will convene at 8:30 a.m. on Tuesday, October 3 and conclude no later than 5 p.m.

ADDRESSES: This meeting will be held at the Hilton New Orleans Airport, 901 Airline Drive, Kenner, LA 70062; telephone: (504) 469-5000.

Council address: Gulf of Mexico Fishery Management Council, 2203 North Lois Avenue, Suite 1100, Tampa, FL 33607.

FOR FURTHER INFORMATION CONTACT: Jeff Rester, Habitat Support Specialist, Gulf States Marine Fisheries Commission; telephone: (228) 875-5912.

SUPPLEMENTARY INFORMATION: The Louisiana/Mississippi group is part of a three-unit Habitat Protection Advisory Panel (AP) of the Gulf of Mexico Fishery Management Council. The principal role of the advisory panels is to assist the Council in attempting to maintain optimum conditions within the habitat and ecosystems supporting the marine resources of the Gulf of Mexico. Advisory panels serve as a first alert system to call to the Council's attention proposed projects being developed and other activities which may adversely impact the Gulf marine fisheries and their supporting ecosystems. The panels may also provide advice to the Council on its policies and procedures for addressing environmental affairs.

At this meeting, the AP will tentatively discuss the Port of Iberia channel deepening project, the Morganza to the Gulf of Mexico hurricane protection project, the Donaldsonville to the Gulf of Mexico hurricane protection project, the proposed deepening of the Atchafalaya River Ship Channel, the Louisiana Coastal Protection and Restoration Plan, the Mississippi River Gulf Outlet deauthorization, the Coastal Impact Assessment Program, the status of the Port of Pascagoula Dredged Material Management Plan, the Mississippi Coastal Improvements Plan, and the Council's Ecosystem Management Plan.

Although other issues not on the agenda may come before the panel for discussion, in accordance with the Magnuson-Stevens Fishery Conservation and Management Act, those issues may not be the subject of formal panel action during this meeting. Panel action will be restricted to those issues specifically identified in the agenda listed as available by this notice.

A copy of the agenda can be obtained by calling (813) 348-1630.

Special Accommodations

This meeting is physically accessible to people with disabilities. Requests for sign language interpretation or other auxiliary aids should be directed to Tina Trezza at the Council (see ADDRESSES) at least 5 working days prior to the meeting.

Dated: September 13, 2006.
Tracey L. Thompson,
Acting Director, Office of Sustainable Fisheries, National Marine Fisheries Service.

[FR Doc. E6-15417 Filed 9-15-06; 8:45 am]

BILLING CODE 3510-22-S